Executive Order 14290 of May 1, 2025

Ending Taxpayer Subsidization of Biased Media

By the authority vested in me as President by the Constitution and the laws of the United States of America, it is hereby ordered:

Section 1. Purpose. National Public Radio (NPR) and the Public Broadcasting Service (PBS) receive taxpayer funds through the Corporation for Public Broadcasting (CPB). Unlike in 1967, when the CPB was established, today the media landscape is filled with abundant, diverse, and innovative news options. Government funding of news media in this environment is not only outdated and unnecessary but corrosive to the appearance of journalistic independence.

At the very least, Americans have the right to expect that if their tax dollars fund public broadcasting at all, they fund only fair, accurate, unbiased, and nonpartisan news coverage. No media outlet has a constitutional right to taxpayer subsidies, and the Government is entitled to determine which categories of activities to subsidize. The CPB's governing statute reflects principles of impartiality: the CPB may not “contribute to or otherwise support any political party.” 47 U.S.C. 396(f)(3); see also id. 396(e)(2).

The CPB fails to abide by these principles to the extent it subsidizes NPR and PBS. Which viewpoints NPR and PBS promote does not matter. What does matter is that neither entity presents a fair, accurate, or unbiased portrayal of current events to taxpaying citizens.

I therefore instruct the CPB Board of Directors (CPB Board) and all executive departments and agencies (agencies) to cease Federal funding for NPR and PBS.

Sec. 2. Instructions to the Corporation for Public Broadcasting. (a) The CPB Board shall cease direct funding to NPR and PBS, consistent with my Administration's policy to ensure that Federal funding does not support biased and partisan news coverage. The CPB Board shall cancel existing direct funding to the maximum extent allowed by law and shall decline to provide future funding.

(b) The CPB Board shall cease indirect funding to NPR and PBS, including by ensuring that licensees and permittees of public radio and television stations, as well as any other recipients of CPB funds, do not use Federal funds for NPR and PBS. To effectuate this directive, the CPB Board shall, before June 30, 2025, revise the 2025 Television Community Service Grants General Provisions and Eligibility Criteria and the 2025 Radio Community Service Grants General Provisions and Eligibility Criteria to prohibit direct or indirect funding of NPR and PBS. To the extent permitted by the 2024 Television Community Service Grants General Provisions and Eligibility Criteria, the 2024 Radio Community Service Grants General Provisions and Eligibility Criteria, and applicable law, the CPB Board shall also prohibit parties subject to these provisions from funding NPR or PBS after the date of this order. In addition, the CPB Board shall take all other necessary steps to minimize or eliminate its indirect funding of NPR and PBS.

Sec. 3. Instructions to Other Agencies. (a) The heads of all agencies shall identify and terminate, to the maximum extent consistent with applicable law, any direct or indirect funding of NPR and PBS.

(b) After taking the actions specified in subsection (a) of this section, the heads of all agencies shall identify any remaining grants, contracts, or other funding instruments entered into with NPR or PBS and shall determine whether NPR and PBS are in compliance with the terms of those instruments. In the event of a finding of noncompliance, the head of the relevant agency shall take appropriate steps under the terms of the instrument.

(c) The Secretary of Health and Human Services shall determine whether “the Public Broadcasting Service and National Public Radio (or any successor organization)” are complying with the statutory mandate that “no person shall be subjected to discrimination in employment . . . on the grounds of race, color, religion, national origin, or sex.” 47 U.S.C. 397(15), 398(b). In the event of a finding of noncompliance, the Secretary of Health and Human Services shall take appropriate corrective action.

Sec. 4. Severability. If any provision of this order, or the application of any provision to any agency, person, or circumstance, is held to be invalid, the remainder of this order and the application of its provisions to any other agencies, persons, or circumstances shall not be affected thereby.

Sec. 5. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

May 1, 2025.

[FR Doc. 2025-08133

Filed 5-6-25; 11:15 am]

Billing code 3395-F4-P